DEPARTMENT OF THE INTERIOR

Fish and Wildlife Service

Comprehensive Conservation Plan and Environmental Assessment for Seney National Wildlife Refuge and Kirtland's Warbler Wildlife Management Area in Michigan, Swan Lake National Wildlife Refuge in Missouri, and St. Croix and Leopold Wetland Management Districts in Wisconsin

AGENCY: Fish and Wildlife Service, Interior.

ACTION: Notice of intent.

SUMMARY: This notice advises the public that the U.S. Fish and Wildlife Service (Service) intends to gather information necessary to prepare Comprehensive Conservation Plans (CCP) and Environmental Assessments (EA) for the following National Wildlife Refuges (NWR), Wildlife Management Area (WMA), and Wetland Management Districts (WMD): Seney NWR in the Upper Peninsula, Michigan and Kirtland's Warbler WMA in 8 counties in the northern Lower Peninsula, Michigan, Swan Lake NWR in Chariton County, Missouri, Leopold WMD with lands in 16 counties in southeastern Wisconsin, and St. Croix WMD with lands in 8 counties in western Wisconsin. The CCPs will describe how we intend to manage the refuges and districts for the next 15 years.

The Service is furnishing this notice in compliance with the National Wildlife Refuge System Administration Act of 1966, as amended (16 U.S.C. 668dd et seq.), and the National Environmental Policy Act (NEPA).

Open house style meetings and possibly focus group meetings and workshops will be held during the scoping phase of the CCP development process to obtain additional suggestions and information on the scope of alternatives and impacts to be considered.

In addition, the Service is inviting comments on archeological, historic, and traditional cultural sites in accordance with the National Historic Preservation Act.

Special mailings, newspaper articles, internet postings, and other media announcements will inform people of the opportunities for written comments.

ADDRESSES: Comments for Seney NWR or Kirtland's Warbler WMA can be mailed to: Refuge Manager, Seney National Wildlife Refuge, 1674 Refuge Entrance Road, Seney, Michigan 49883.

Comments for Swan Lake NWR can be mailed to: Refuge Manager, Swan Lake National Wildlife Refuge, 16194 Swan Lake Avenue, Sumner, Missouri 64681.

Comments for Leopold WMD can be mailed to: District Manager, W10040 Cascade Mountain Road, Portage, Wisconsin 53901.

Comments for St. Croix WMD can be mailed to: District Manager, 1764 95th Street, New Richmond, Wisconsin 54017.

You may also find information on the CCP planning process and submit comments electronically on the planning Web site http://www.fws.gov/midwest/planning or you may e-mail comments to r3planning@fws.gov.

FOR FURTHER INFORMATION CONTACT: Tracy Casselman, Seney NWR or Kirtland's Warbler WMA, at 906-586-9851 or John Guthrie, Swan Lake NWR, at 660-856-3323 or Steve Lenz, Leopold WMD, at 608-742-7100 or Chet McCarty, St. Croix WMD, at 715-246-7784.

SUPPLEMENTARY INFORMATION: The National Wildlife Refuge System Administration Act of 1966, as amended by the National Wildlife Refuge System Improvement Act of 1997 (16 U.S.C. 668dd-668ee et seq.), requires the Service to develop a CCP for each National Wildlife Refuge. Land parcels managed by the Service within a Wetland Management District are also units of the National Wildlife Refuge System. The purpose in developing a CCP is to provide refuge and district managers with a 15-year strategy for achieving refuge purposes and contributing toward the mission of the National Wildlife Refuge System, consistent with sound principles of fish and wildlife management, conservation, legal mandates, and Service policies. In addition to outlining broad management direction on conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

By Federal law, all lands within the National Wildlife Refuge System are to be managed in accordance with an approved CCP. The CCP guides management decisions and identifies refuge goals, long-range objectives, and strategies for achieving refuge purposes. The CCP will provide other agencies and the public with a clear understanding of the desired conditions for Refuge, Wildlife Management Area, and Wetland Management District lands and how the Service will implement management strategies.

The CCP planning process will consider many elements, including wildlife and habitat management, habitat protection and acquisition, wilderness preservation, public recreational activities and cultural resource preservation. Public input into this planning process is essential.

The Service will prepare an Environmental Assessment (EA) for each CCP in accordance with procedures for implementing NEPA found in the Departmental Manual 516 DM 6, Appendix 1.

Review of this project will be conducted in accordance with the requirements of the National Environmental Policy Act of 1969, as amended (42 U.S.C. 4321 et seq.), NEPA Regulations (40 CFR 1500-1508), other appropriate Federal laws and regulations, and Service policies and procedures for compliance with those regulations.

Dated: March 28, 2006.
Robyn Thorson,
Regional Director, U.S. Fish and Wildlife Service, Fort Snelling, Minnesota.

[FR Doc. E6-5981 Filed 4-20-06; 8:45 am]

BILLING CODE 4310-55-P